DEPARTMENT OF LABOR

Employment and Training Administration

[NAFTA-4584 and NAFTA-4584A]

International Paper Castigan Mill, Milford, ME; and International Paper Passadumkeag Mill, Passadumkeag, ME; Notice of Affirmative Determination Regarding Application for Reconsideration

By letter of May 10, 2001, counsel on behalf of the company, requests administrative reconsideration of the Department's negative determination regarding eligibility to apply for North American Free Trade Agreement—Transitional Adjustment Assistance (NAFTA-TAA) applicable to workers and former workers of the subject firm plants. The denial notice was signed on March 13, 2001, and was published in the Federal Register on April 16, 2001 (66 FR 19522).

The company presents new information regarding U.S. imports of stud grade lumber.

Conclusion

After careful review of the application, I conclude that the claim is of sufficient weight to justify reconsideration of the Department of Labor's prior decision. The application is, therefore, granted.

Signed at Washington, D.C. this 25th day of June, 2001
Edward A. Tomchick,
Director, Division of Trade Adjustment Assistance.

[FR Doc. 01-16847 Filed 7-3-01; 8:45 am]

BILLING CODE 4510-30-M